DEPARTMENT OF THE TREASURY

Submission for OMB Review; Comment Request

March 14, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 24, 2000, to be assured of consideration.

Internal Revenue Service (IRS)

OMB Number: 1545-0260.

Form Number: IRS Form 706-CE.

Type of Review: Extension.

Title: Certificate of Payment of Foreign Death Tax.

Description: Form 706-CE is used by the executors of estates to certify that foreign death taxes have been paid so that the estate may claim the foreign death tax credit by Internal Revenue Code (IRC) section 2014. The information is used by IRS to verify that the proper credit has been claimed.

Respondents: Individuals or households.

Estimated Number of Respondents/Recordkeepers: 2,250.

Estimated Burden Hours Per Respondent/Recordkeeper:

Recordkeeping—46 min.

Learning about the law or the form—5 min.

Preparing the form—25 min.

Copying, assembling, and sending the form to the IRS 8—2 min.

Frequency of Response: On occasion.

Estimated Total Reporting/Recordkeeping Burden: 3,893 hours.

OMB Number: 1545-0919.

Regulation Project Number: PS-105-75 Final.

Type of Review: Extension.

Title: Limitations on Percentage Depletion in the Case of Oil and Gas Wells.

Description: The regulations require each partner to separately keep records of his share of the adjusted basis of partnership oil and gas property and require each partnership, trusts, estates, and operator to provide information necessary to certain persons to compute depletion with respect to oil and gas.

Respondents: Business or other for-profit.

Estimated Number of Respondents/Recordkeepers: 1,500,000.

Estimated Burden Hours Per Respondent/Recordkeeper: 1 hour.

Frequency of Response: Annually.

Estimated Total Reporting/Recordkeeping Burden: 1 hour.

OMB Number: 1545-1233.

Regulation Project Number: IA-14-91 Final.

Type of Review: Extension.

Title: Adjusted Current Earnings.

Description: This information is required by the IRS to ensure the proper application of section 1.56(g)-1 of the regulation. It will be used to verify that taxpayers have properly elected the benefits of section 1.56(g)-1(r) of the regulation.

Respondents: Business or other for-profit.

Estimated Number of Respondents: 1,000.

Estimated Burden Hours Per Respondent: 1 hour.

Frequency of Response: Other (once only).

Estimated Total Reporting Burden: 1,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-7222 Filed 3-22-00; 8:45 am]

BILLING CODE 4830-01-U